DEPARTMENT OF COMMERCE

National Oceanic and Atmospheric Administration

50 CFR Part 622

[Docket No. 160815740-6740-01]

RIN 0648-BG28

Fisheries of the Caribbean, Gulf of Mexico, and South Atlantic; Shrimp Fishery of the Gulf of Mexico; Revision of Bycatch Reduction Device Testing Manual

AGENCY: National Marine Fisheries Service, National Oceanic and Atmospheric Administration (NOAA), Commerce.

ACTION: Stay of final rule.

SUMMARY: In accordance with a January 20, 2017 memo from the White House, we the National Marine Fisheries Service (NMFS) are staying the final rule we published on December 27, 2016 in order to delay its effective date.

DATES: Effective January 30, 2017, the final rule that published December 27, 2016, at 81 FR 95056, is stayed until March 21, 2017.

FOR FURTHER INFORMATION CONTACT: Susan Gerhart, NMFS Southeast Regional Office, telephone: 727-824-5305, email: susan.gerhart@noaa.gov.

SUPPLEMENTARY INFORMATION: On December 27, 2016, NMFS published this final rule making administrative revisions to the Bycatch Reduction Device Testing Manual. The revisions were made in accordance with the framework procedures for adjusting management measures of the Fishery Management Plan for the Shrimp Fishery of the Gulf of Mexico. These changes to management measures do not add to or change any existing Federal regulations. Therefore, no codified text is associated with these changes to management measures.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we are enacting this stay of the rule published on December 27, 2016, at 81 FR 95056 (see DATES above) until March 21, 2017.

Authority: 16 U.S.C. 1801 et seq.

Dated: January 24, 2017.
Alan D. Risenhoover,
Acting Deputy Assistant Administrator for Regulatory Programs, National Marine Fisheries Service.

[FR Doc. 2017-01929 Filed 1-27-17; 8:45 am]

BILLING CODE 3510-22-P